DEPARTMENT OF TRANSPORTATION

Federal Aviation Administration

14 CFR Part 39

[Docket No. FAA-2010-0637; Directorate Identifier 2009-NM-062-AD; Amendment 39-16345; AD 2009-15-16]

RIN 2120-AA64

Airworthiness Directives; McDonnell Douglas Corporation Model DC-9-10 Series Airplanes, DC-9-30 Series Airplanes, DC-9-81 (MD-81) Airplanes, DC-9-82 (MD-82) Airplanes, DC-9-83 (MD-83) Airplanes, DC-9-87 (MD-87) Airplanes, MD-88 Airplanes, and MD-90-30 Airplanes

AGENCY: Federal Aviation Administration (FAA), Department of Transportation (DOT).

ACTION: Final rule; request for comments.

SUMMARY: This document publishes in the Federal Register an amendment adopting airworthiness directive (AD) 2009-15-16 that was sent previously to all known U.S. owners and operators of the McDonnell Douglas Corporation airplanes identified above by individual notices. This AD requires modifying the flight deck door. This AD is prompted by a report indicating that certain equipment of the flight deck door is defective. We are issuing this AD to prevent failure of this equipment, which could jeopardize flight safety.

DATES: This AD becomes effective July 6, 2010 to all persons except those persons to whom it was made immediately effective by AD 2009-15-16, which contained the requirements of this amendment.

The Director of the Federal Register approved the incorporation by reference of a certain publication listed in the AD as of July 6, 2010.

We must receive comments on this AD by August 16, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact TIMCO Aerosystems, 815 Radar Road, Greensboro, NC 27410-6221; telephone 336-668-4410, extension 3063; fax 336-662-8330; Internet: http://www.timco.aero.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Linda Haynes, Aerospace Engineer, COS—Certificate Management Branch, ACE-102A, FAA, Atlanta Aircraft Certification Office, 1701 Columbia Avenue, College Park, GA 30337; telephone 404-474-5525; fax 404-474-5606.

SUPPLEMENTARY INFORMATION: On July 15, 2009, we issued AD 2009-15-16, which applies to all McDonnell Douglas Model DC-9-10 series airplanes, DC-9-30 series airplanes, DC-9-81 (MD-81) airplanes, DC-9-82 (MD-82) airplanes, DC-9-83 (MD-83) airplanes, DC-9-87 (MD-87) airplanes, MD-88 airplanes, and MD-90-30 airplanes.

Background

We have received a report indicating that certain equipment of the flight deck door is defective. This condition, if not corrected, could result in failure of the equipment, which could jeopardize flight safety.

Relevant Service Information

We reviewed TIMCO Service Bulletin TSB-88-52-045, Revision E, dated November 6, 2008. The service bulletin describes procedures for correcting the defect in the flight deck door.

FAA's Determination and Requirements of This AD

Since the unsafe condition described is likely to exist or develop on other airplanes of the same type design, we issued AD 2009-15-16 to prevent failure of certain equipment of the flight deck door, which could jeopardize flight safety. The AD requires accomplishing the actions specified in the service information previously described.

We have determined that notice and opportunity for prior public comment on AD 2009-15-16 were contrary to the public interest, and good cause existed to make the AD effective immediately by individual notices issued on July 15, 2009, to all known U.S. owners and operators of McDonnell Douglas Model DC-9-10 series airplanes, DC-9-30 series airplanes, DC-9-81 (MD-81) airplanes, DC-9-82 (MD-82) airplanes, DC-9-83 (MD-83) airplanes, DC-9-87 (MD-87) airplanes, MD-88 airplanes, and MD-90-30 airplanes. These conditions still exist, and the AD is hereby published in the Federal Register as an amendment to section 39.13 of the Federal Aviation Regulations (14 CFR 39.13) to make it effective to all persons.

Comments Invited

This AD is a final rule that involves requirements affecting flight safety, and we did not provide you with notice and an opportunity to provide your comments before it becomes effective. However, we invite you to send any written data, views, or arguments about this AD. Send your comments to an address listed under the ADDRESSES section. Include “Docket No. FAA-2010-0637; Directorate Identifier 2009-NM-062-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

AD 2009-15-16 McDonnell Douglas Corporation: Amendment 39-16345. Docket No. FAA-2010-0637; Directorate Identifier 2009-NM-062-AD.

Effective Date

(a) This AD becomes effective July 6, 2010, to all persons except those persons to whom it was made immediately effective by AD 2009-15-16, issued on July 15, 2009, which contained the requirements of this amendment.

Affected ADs

(b) None.

Applicability

(c) This AD applies to all McDonnell Douglas Corporation Model DC-9-11, DC-9-12, DC-9-13, DC-9-14, DC-9-15, and DC-9-15F airplanes, Model DC-9-31, DC-9-32, DC-9-32 (VC-9C), DC-9-32F, DC-9-33F, DC-9-34, DC-9-34F, and DC-9-32F (C-9A, C-9B) airplanes, DC-9-81 (MD-81) airplanes, DC-9-82 (MD-82) airplanes, DC-9-83 (MD-83) airplanes, DC-9-87 (MD-87) airplanes, MD-88 airplanes, and MD-90-30 airplanes; certificated in any category.

Subject

(d) Air Transport Association (ATA) of America Code 52: Doors.

Unsafe Condition

(e) This AD results from a report indicating that the current design of certain equipment of the flight deck door is defective. We are issuing this AD to prevent the failure of this equipment, which could jeopardize flight safety.

Compliance

(f) Comply with this AD within the compliance times specified, unless already done.

Installation

(g) Within 30 days after the effective date of this AD, modify the flight deck door, in accordance with TIMCO Service Bulletin TSB-88-52-045, Revision E, dated November 6, 2008.

Alternative Methods of Compliance (AMOCs)

(h)(1) The Manager, Atlanta Aircraft Certification Office (ACO), FAA, has the authority to approve AMOCs for this AD, if requested using the procedures found in 14 CFR 39.19. Send information to ATTN: Linda Haynes, Aerospace Engineer, COS—Certificate Management Branch, ACE-102A, FAA, Atlanta Aircraft Certification Office, 1701 Columbia Avenue, College Park, GA 30337; telephone 404-474-5525; fax 404-474-5606.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically refer to this AD.

Material Incorporated by Reference

(i) You must use TIMCO Service Bulletin TSB-88-52-045, Revision E, dated November 6, 2008, to do the actions required by this AD, unless the AD specifies otherwise. (The revision date of this document is identified only on the title page and page I of the document; no other page of the document contains this information.)

(1) The Director of the Federal Register approved the incorporation by reference of this service information under 5 U.S.C. 552(a) and 1 CFR part 51.

(2) For service information identified in this AD, contact TIMCO Aerosystems, 815 Radar Road, Greensboro, NC 27410-6221; telephone 336-668-4410, extension 3063; fax 336-662-8330; Internet: http://www.timco.aero.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to http://www.archives.gov/federal_register/code_of_federal_regulations/ibr_locations.html.

Issued in Renton, Washington, on June 18, 2010.
Ali Bahrami,
Manager, Transport Airplane Directorate, Aircraft Certification Service.

[FR Doc. 2010-15656 Filed 6-30-10; 8:45 am]

BILLING CODE 4910-13-P